DEPARTMENT OF THE INTERIOR

Fish and Wildlife Service

50 CFR Part 17

[Docket No. FWS-R8-ES-2011-0063: FXES11130900000-134-FF09E32000]

RIN 1018-AV29

Endangered and Threatened Wildlife and Plants; Removal of the Valley Elderberry Longhorn Beetle From the Federal List of Endangered and Threatened Wildlife

AGENCY: Fish and Wildlife Service, Interior.

ACTION: Proposed rule; reopening of public comment.

SUMMARY: We, the U.S. Fish and Wildlife Service (Service), announce the reopening of the public comment period on our October 2, 2012, 12-month petition finding and proposed rule to remove the valley elderberry longhorn beetle (Desmocerus californicus dimorphus) from the List of Endangered and Threatened Wildlife. The 60-day comment period for our proposed rule ended on December 3, 2012. This notice announces a 30-day reopening of the comment period to allow all interested parties an additional opportunity to comment on the proposed rule and to submit information on the status of the species. If you submitted comments previously, you do not need to resubmit them because we have already incorporated them into the public record and will fully consider them in preparation of the final rule.

DATES: We will consider all comments received or postmarked on or before February 22, 2013. Comments submitted electronically using the Federal eRulemaking Portal (see ADDRESSES section, below) must be received by 11:59 p.m. Eastern Time on the closing date.

ADDRESSES: Document availability: You may obtain copies of the proposed rule and related documents on the Internet at http://www.regulations.gov under Docket Number FWS-R8-ES-2011-0063, or by mail from the Sacramento Fish and Wildlife Office (see FOR FURTHER INFORMATION CONTACT).

Comment submission: You may submit written comments by one of the following methods:

(1) Electronically: Go to the Federal eRulemaking Portal: http://www.regulations.gov. In the Search box, enter FWS-R8-ES-2011-0063, which is the docket number for this rulemaking. On the search results page, under the Comment Period heading in the menu on the left side of your screen, check the box next to “Open” to locate this document. Please ensure you have found the correct document before submitting your comments. If your comments will fit in the provided comment box, please use this feature of http://www.regulations.gov, as it is most compatible with our comment review procedures. If you attach your comments as a separate document, our preferred file format is Microsoft Word. If you attach multiple comments (such as form letters), our preferred format is a Microsoft Excel spreadsheet.

(2) By Hard Copy: Submit by U.S. mail or hand-delivery to: Public Comments Processing, Attn: FWS-R8-ES-2011-0063; Division of Policy and Directives Management; U.S. Fish and Wildlife Service; 4401 N. Fairfax Drive, MS 2042-PDM; Arlington, VA 22203.

We request that you send comments only by the methods described above. We will post all information received on http://www.regulations.gov. This generally means that we will post any personal information you provide us (see Public Comments in SUPPLEMENTARY INFORMATION for more information).

FOR FURTHER INFORMATION CONTACT: Jan Knight, Deputy Field Supervisor, Sacramento Fish and Wildlife Office, 2800 Cottage Way, Suite W-2605, Sacramento, CA 95825; telephone 916-414-6600; facsimile 916-414-6712. If you use a telecommunications device for the deaf (TDD), call the Federal Information Relay Service (FIRS) at 800-877-8339.

SUPPLEMENTARY INFORMATION:

Public Comments

We will accept written comments and information during this reopened comment period on our October 2, 2012, 12-month finding and proposed rule to remove the valley elderberry longhorn beetle from the List of Endangered and Threatened Wildlife, and to remove the designation of critical habitat (77 FR 60237). For more information on the specific information we are seeking, please see the October 2, 2012, proposed rule. You may obtain copies of the proposed rule and related documents on the Internet at http://www.regulations.gov under Docket Number FWS-R8-ES-2011-0063, or by mail from the Sacramento Fish and Wildlife Office (see FOR FURTHER INFORMATION CONTACT).

You may submit your comments and materials concerning the proposed rule by one of the methods listed in ADDRESSES. We will not accept comments sent by email or fax, or to an address not listed in ADDRESSES. If you submit a comment via http://www.regulations.gov, your entire comment—including your personal identifying information—will be posted on the Web site. If you submit a hardcopy comment that includes personal identifying information, you may request at the top of your document that we withhold this information from public review. However, we cannot guarantee that we will be able to do so. We will post all hardcopy comments on http://www.regulations.gov.

All comments for this reopening of the public comment period must be received or postmarked on or before the date shown in DATES. Comments previously submitted need not be resubmitted, as they will be fully considered in preparation of the final rule. We intend that any final action resulting from this proposal be as accurate as possible and based on the best available scientific and commercial data. We will consider information and recommendations from all interested parties. Your comments are part of the public record, and we will fully consider them in the preparation of our final determination.

Comments and materials we receive, as well as supporting documentation we used in preparing the proposed rule, will be available for public inspection on http://www.regulations.gov, or by appointment, during normal business hours, at the Sacramento Fish and Wildlife Office (see FOR FURTHER INFORMATION CONTACT).

Background

On October 2, 2012 (77 FR 60237), we published, in the Federal Register, a combined 12-month finding and proposed rule to remove the valley elderberry longhorn beetle from the List of Endangered and Threatened Wildlife, and to remove the designation of critical habitat. That proposal had a 60-day comment period, ending December 3, 2012. We have not received any requests for a public hearing; therefore, no public hearings are planned at this time.

Peer Review

In accordance with our joint policy on peer review published in the Federal Register on July 1, 1994 (59 FR 34270), we subjected the proposed rule to peer review. This peer review will be provided to the Service during this reopened public comment period, and once available, we will post the peer review comments online at http://www.regulations.gov under Docket Number FWS-R8-ES-2011-0063.

We will consider all comments and information provided by the public and peer reviewers during this comment period in preparation of a final determination on our proposed delisting. Accordingly, the final decision may differ from our proposal.

Authority

The authority for this action is the Endangered Species Act of 1973, as amended (16 U.S.C. 1531 et seq.).

Dated: December 31, 2012.
Rowan W. Gould,
Acting Director, U.S. Fish and Wildlife Service.

[FR Doc. 2013-01155 Filed 1-22-13; 8:45 am]

BILLING CODE 4310-55-P